DEPARTMENT OF LABOR

Employment and Training Administration

[TA-W-37,783]

UFE Incorporated El Paso, TX; Notice of Termination of Investigation

Pursuant to section 221 of the Trade Act of 1974, an investigation was initiated on June 12, 2000, in response to a petition which was filed by UNITE on behalf of workers at UFE, Incorporated, El Paso, Texas.

The signatories of the petition do not represent the workforce at the subject firm, either as a union or as a duly authorized representative. Thus, this investigation has been terminated.

Signed at Washington, DC this 23rd day of August 2000.
Grant D. Beale,
Program Manager, Division of Trade Adjustment Assistance.

[FR Doc. 00-23508 Filed 9-12-00; 8:45 am]

BILLING CODE 4510-30-M